DEPARTMENT OF ENERGY

[FE Docket No. 03-77-NG]

Office of Fossil Energy; BG LNG Services, LLC; Order Granting Long-Term Authority To Import Liquefied Natural Gas From The Republic of Trinidad and Tobago

AGENCY: Office of Fossil Energy, DOE.

ACTION: Notice of order.

SUMMARY: The Office of Fossil Energy (FE) gives notice that it issued DOE/FE Order No. 1926 granting BG LNG Services, LLC authority to import up to 109 million British thermal units per year over a term of 22 years beginning on December 8, 2003. The liquefied natural gas (LNG) will be imported under a LNG Sale and Purchase Agreement with BG Gas Marketing LTD.

This Order may be found on the FE Web site at http://www.fe.doe.gov (select gas regulation). It is also available for inspection and copying in the Office of Natural Gas & Petroleum Import & Export Activities Docket Room, 3E-033, Forrestal Building, 1000 Independence Avenue, SW., Washington, DC 20585-0334, (202) 586-9478. The Docket 4:30 p.m., Monday through Friday, except Federal holidays.

Issued in Washington, DC, December 22, 2003.
Clifford Tomaszewski,
Manager, Natural Gas Regulation, Office of Natural Gas & Petroleum, Import & Export Activities, Office of Fossil Energy.

[FR Doc. 03-32145 Filed 12-30-03; 8:45 am]

BILLING CODE 6450-01-P